INTERNATIONAL TRADE COMMISSION

[Investigation No. 337-TA-455]

In the Matter of Certain Network Interface Cards and Access Points for Use in Direct Sequence Spread Spectrum Wireless Local Area Networks and Products Containing Same: Notice of a Commission Determination Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on April 9, 2001, based on a complaint filed by Proxim, Inc. (“Proxim”) against 14 respondents. Three companies subsequently intervened, including Agere Systems Inc. (“Agere”). In its complaint, Proxim contended that respondents” accused products infringed the patent claims in issue because they contained either semiconductors made by intervenor Agere (“the Agere parties”) or by respondent Intersil Corp. (“the Intersil parties”).

On September 25, 2002, the Commission determined not to review an ID by the then presiding ALJ terminating the investigation as to the Agere parties on the basis of a settlement agreement. Only the Intersil parties then remained in the investigation.

On March 17, 2003, Proxim and Intersil entered into a settlement agreement. On May 5, 2003, Proxim and the Intersil parties filed a joint motion to terminate the investigation on the basis of the settlement agreement. The Commission investigative attorney supported the joint motion.

On May 15, 2003, the current presiding ALJ issued the subject ID (Order No. 106) granting the joint motion of Proxim and the Intersil parties to terminate the investigation on the basis of a settlement agreement. No party filed a petition to review the ID.

The authority for the Commission's determination is contained in section 337 of the Tariff Act of 1930, as amended (19 U.S.C. 1337), and in § 210.42 of the Commission's rules of practice and procedure (19 CFR § 210.42).

Issued: June 11, 2003.
By order of the Commission.
Marilyn R. Abbott,
Secretary.

[FR Doc. 03-15250 Filed 6-16-03; 8:45 am]

BILLING CODE 7020-02-P